DEPARTMENT OF HOMELAND SECURITY

Federal Emergency Management Agency

[Docket ID FEMA-2025-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The current effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Jeffrey Jackson,
Deputy Assistant Administrator, Federal Insurance Directorate, Resilience, Federal Emergency Management Agency, Department of Homeland Security.

State and county | Location and case No. | Chief executive officer of community | Community map repository | Date of modification | Community No.
Arizona:
Coconino (FEMA Docket No.: B-2510) | Unincorporated areas of Coconino County (23-09-0474P). | Andy Bertelsen, Coconino County Manager, 219 East Cherry Avenue, Flagstaff, AZ 86001. | Coconino County Administrative Center, 219 East Cherry Avenue, Flagstaff, AZ 86001. | Jun. 6, 2025 | 040019
Mohave (FEMA Docket No.: B-2510) | City of Kingman (24-09-0955P). | The Honorable Ken Watkins, Mayor, City of Kingman, 310 North 4th Street, Kingman, AZ 86401. | City Hall, 310 North 4th Street, Kingman, AZ 86401. | May 15, 2025 | 040060
Arkansas:
Benton (FEMA Docket No.: B-2514) | City of Bentonville (24-06-2300P). | The Honorable Stephanie Orman, Mayor, City of Bentonville, 305 Southwest A Street, Bentonville, AR 72712. | City Hall, 3200 Southwest Municipal Drive, Bentonville, AR 72712. | Jun. 30, 2025 | 050012
Benton (FEMA Docket No.: B-2514) | City of Rogers (24-06-2300P). | The Honorable Greg Hines, Mayor, City of Rogers, 301 West Chestnut Street, Rogers, AR 72756. | City Hall, 301 West Chestnut Street, Rogers, AR 72756. | Jun. 30, 2025 | 050013
Benton (FEMA Docket No.: B-2514) | Unincorporated areas of Benton County (24-06-2300P). | The Honorable Barry Moehring, Benton County Judge, 215 East Central Avenue, Bentonville, AR 72712. | Benton County Planning Department, 215 East Central Avenue, Bentonville, AR 72712. | Jun. 30, 2025 | 050419
Pulaski (FEMA Docket No.: B-2514) | City of Maumelle (24-06-1837P). | The Honorable Caleb Norris, Mayor, City of Maumelle 550 Edgewood Drive, Maumelle, AR 72113. | City Hall, 550 Edgewood Drive, Maumelle, AR 72113. | Jun. 25, 2025 | 050577
Pulaski (FEMA Docket No.: B-2514) | Unincorporated areas of Pulaski County (24-06-1837P). | The Honorable Barry Hyde, Pulaski County Judge, 201 South Broadway Street, Suite 400, Little Rock, AR 72201. | Pulaski County Planning and Development Department, 3200 Brown Street, Little Rock, AR 72204. | Jun. 25, 2025 | 050179
California:
Riverside (FEMA Docket No.: B-2510) | City of Corona (23-09-0157P). | The Honorable Jim Steiner, Mayor, City of Corona, 400 South Vicentia Avenue, Corona, CA 92882. | Public Works Department, 400 South Vicentia Avenue, Corona, CA 92882. | May 12, 2025 | 060250
Riverside (FEMA Docket No.: B-2510) | City of Corona (24-09-0762P). | The Honorable Jim Steiner, Mayor, City of Corona, 400 South Vicentia Avenue, Corona, CA 92882. | Public Works Department, 400 South Vicentia Avenue, Corona, CA 92882. | May 22, 2025 | 060250
Riverside (FEMA Docket No.: B-2510) | City of Lake Elsinore (24-09-0382P). | The Honorable Steve Manos, Mayor, City of Lake Elsinore, 130 South Main Street, Lake Elsinore, CA 92530. | City Hall, 130 South Main Street, Lake Elsinore, CA 92530. | Jun. 5, 2025 | 060636
Riverside (FEMA Docket No.: B-2510) | City of Jurupa Valley (24-09-0110P). | The Honorable Guillermo Silva, Mayor, City of Jurupa Valley, 8930 Limonite Avenue, Jurupa Valley, CA 92509. | City Hall, 8304 Limonite Avenue, Suite M, Jurupa, CA 92509. | May 30, 2025 | 060286
Riverside (FEMA Docket No.: B-2510) | Unincorporated areas of Riverside County (23-09-0157P). | Chuck Washington, Chair, Riverside County Board of Supervisors, 4080 Lemon Street, 5th Floor, Riverside, CA 92501. | Riverside County Flood Control and Water Conservation District, 1995 Market Street, Riverside, CA 92501. | May 12, 2025 | 060245
Riverside (FEMA Docket No.: B-2510) | Unincorporated areas of Riverside County (24-09-0382P). | Chuck Washington, Chair, Riverside County Board of Supervisors, 4080 Lemon Street, 5th Floor, Riverside, CA 92502. | Riverside County Flood Control and Water Conservation District, 1995 Market Street, Riverside, CA 92501. | Jun. 5, 2025 | 060245
Tulare (FEMA Docket No.: B-2510) | Unincorporated areas of Tulare County (22-09-1345P). | Larry Micari, Chair, Tulare County Board of Supervisors, 2800 West Burrel Avenue, Visalia, CA 93291. | Tulare County Government Plaza, Resource Management Headquarters, 5961 South Mooney Boulevard, Visalia, CA 93277. | May 12, 2025 | 065066
Ventura (FEMA Docket No.: B-2510) | City of Santa Paula (23-09-1150P). | The Honorable Leslie Cornejo, Mayor, City of Santa Paula, 970 East Ventura Street, Santa Paula, CA 93060. | City Hall, 970 East Ventura Street, Santa Paula, CA 93060. | May 15, 2025 | 060420
Ventura (FEMA Docket No.: B-2510) | Unincorporated areas of Ventura County (23-09-1150P). | Kelly Long, Chair, Ventura County Board of Supervisors, 1203 Flynn Road, Suite 200, Camarillo, CA 93012. | Ventura County Public Works Watershed Protection, 800 South Victoria Avenue, Ventura, CA 93009. | May 15, 2025 | 060413
Colorado:
El Paso (FEMA Docket No.: B-2510) | City of Colorado Springs (23-08-0277P). | The Honorable Yemi Mobolade, Mayor, City of Colorado Springs, 30 South Nevada Avenue, Suite 601, Colorado Springs, CO 80903. | Pikes Peak Regional Building Department, Floodplain Management Office, 2880 International Circle, Colorado Springs, CO 80910. | May 12, 2025 | 080060
El Paso (FEMA Docket No.: B-2510) | Unincorporated areas of El Paso County (23-08-0701P). | Carrie Geitner, Chair, El Paso County, Board of Commissioners, 200 South Cascade Avenue, Suite 100, Colorado Springs, CO 80903. | El Paso County Pikes Peak Regional Building Department, Floodplain Management Office, 2880 International Circle, Colorado Springs, CO 80910. | May 28, 2025 | 080059
Florida:
Bay (FEMA Docket No.: B-2514) | City of Mexico Beach (24-04-5008P). | The Honorable Richard Wolff, Mayor, City of Mexico Beach, 201 Paradise Path, Mexico Beach, FL 32456. | City Hall, 201 Paradise Path, Mexico Beach, FL 32456. | Jun. 9, 2025 | 120010
Collier (FEMA Docket No.: B-2517) | Unincorporated areas of Collier County (24-04-2903P). | Amy Patterson, Collier County Manager, 3299 Tamiami Trail East, Naples, FL 34112. | Collier County Growth Management Community Development Department (GMCDD), 2800 North Horseshoe Drive, Suite 756, Naples, FL 34104. | Jul. 7, 2025 | 120067
Leon (FEMA Docket No.: B-2517) | City of Tallahassee (24-04-1722P). | The Honorable John E. Dailey, Mayor, City of Tallahassee, 300 South Adams Street, Tallahassee, FL 32301. | Stormwater Management, 300 South Adams Street, Tallahassee, FL 32301. | Jul. 7, 2025 | 120144
Leon (FEMA Docket No.: B-2517) | Unincorporated areas of Leon County (24-04-1722P). | Vincent S. Long, Leon County Administrator, 301 South Monroe Street, Tallahassee, FL 32301. | Leon County Environmental Services Department, 435 North Macomb Street, Tallahassee, FL 32301. | Jul. 7, 2025 | 120143
Manatee (FEMA Docket No.: B-2522) | Unincorporated areas of Manatee County (24-04-7081P). | Charlie Bishop, Manatee County Administrator, 1112 Manatee Avenue West, Bradenton, FL 34205. | Manatee County Administration Building, 1112 Manatee Avenue West, Bradenton, FL 34205. | Jul. 3, 2025 | 120153
St. Johns (FEMA Docket No.: B-2517) | Unincorporated areas of St. Johns County (24-04-7357P). | Joy Andrews, Administrator, St. Johns County Board of Commissioners, 500 San Sebastian View, St. Augustine, FL 32084. | St. Johns County Administration Building, 500 San Sebastian View, St. Augustine, FL 32084. | Jul. 7, 2025 | 125147
Volusia (FEMA Docket No.: B-2514) | City of DeLand (24-04-2278P). | Michael Pleus, Manager, City of DeLand, 120 South Florida Avenue, DeLand, FL 32720. | City Hall, 120 South Florida Avenue, DeLand, FL 32720. | Jun. 30, 2025 | 120307
Volusia (FEMA Docket No.: B-2514) | Unincorporated areas of Volusia County (24-04-2278P). | George Recktenwald, Volusia County Manager, 123 West Indiana Avenue, DeLand, FL 32720. | Volusia County Thomas C. Kelly Administration Center, 123 West Indiana Avenue, DeLand, FL 32720. | Jun. 30, 2025 | 125155
Illinois:
Kane (FEMA Docket No.: B-2514) | Unincorporated areas of Kane County (24-05-1930P). | Corinne Pierog, Chair, Kane County Board, 719 South Batavia Avenue, Building A, Geneva, IL 60134. | Water Resources Department, Kane County Government Center, 719 South Batavia Avenue, Building A, Geneva, IL 60134. | Jun. 13, 2025 | 170896
Kane (FEMA Docket No.: B-2514) | Village of Pingree Grove (24-05-1930P). | Amber Kubiak, Village of Pingree Grove President, 555 Reinking Road, Pingree Grove, IL 60140. | Village Hall, 555 Reinking Road, Pingree Grove, IL 60140. | Jun. 13, 2025 | 171078
Indiana:
Vigo (FEMA Docket No.: B-2517) | City of Terre Haute (24-05-0143P). | The Honorable Brandon Sakbun, Mayor, City of Terre Haute, 17 Harding Avenue, Room 2002, Terre Haute, IN 47807. | City Hall, 17 Harding Avenue, Terre Haute, IN 47807. | Jul. 7, 2025 | 180264
Vigo (FEMA Docket No.: B-2517) | Unincorporated areas of Vigo County (24-05-0143P). | The Honorable Chris Switzer, Chair, Vigo County Board of Commissioners, 650 South 1st Street, Terre Haute, IN 47807. | Vigo County Planning Department, 159 Oak Street, Terre Haute, IN 47807. | Jul. 7, 2025 | 180263
Kansas:
Sedgwick (FEMA Docket No.: B-2517) | City of Wichita (24-07-0114P). | The Honorable Lily Wu, Mayor, City of Wichita, 455 North Main, Wichita, KS 67202. | City Hall, 455 North Main, Wichita, KS 67202. | Jul. 2, 2025 | 200328
Sedgwick (FEMA Docket No.: B-2517) | Unincorporated areas of Sedgwick County (24-07-0114P). | Tom Stolz, Manager, Sedgwick County, 100 North Broadway, Suite 630, Wichita, KS 67202. | Wichita-Sedgwick County Metropolitan Area Planning Department, 271 West 3rd Street North, Wichita, KS 67202. | Jul. 2, 2025 | 200321
Kentucky: Jefferson (FEMA Docket No.: B-2522) | Metropolitan Government of Louisville and Jefferson County (24-04-0228P). | The Honorable Craig Greenberg, Mayor, Metropolitan Government of Louisville and Jefferson County, 527 West Jefferson Street, Louisville, KY 40202. | Louisville/Jefferson County Metropolitan Sewer District, 700 West Liberty Street, Louisville, KY 40203. | Jun. 26, 2025 | 210120
Michigan: Bay (FEMA Docket No.: B-2514) | Charter Township of Bangor (25-05-0390P). | Glenn Rowley, Supervisor, Charter Township of Bangor, 180 State Park Drive, Bay City, MI 48706. | Charter Township of Bangor Offices, 180 State Park Drive, Bay City, MI 48706. | Jun. 25, 2025 | 260019
Mississippi: Lee (FEMA Docket No.: B-2514) | City of Tupelo (24-04-1425P). | The Honorable Todd Jordan, Mayor, City of Tupelo, 71 East Troy Street, Tupelo, MS 38804. | City Hall, 71 East Troy Street, Tupelo, MS 38804. | Jun. 23, 2025 | 280100
Nevada: Independent City (FEMA Docket No.: B-2510) | City of Carson City (22-09-1343P). | The Honorable Lori Bagwell, Mayor, City of Carson City, 201 North Carson Street, Carson City, NV 89701. | City Hall, 201 North Carson Street, Carson City, NV 89701. | May 15, 2025 | 320001
New Mexico: Bernalillo (FEMA Docket No.: B-2517) | City of Albuquerque (24-06-1836P). | The Honorable Timothy M. Keller, Mayor, City of Albuquerque, P.O. Box 1293, Albuquerque, NM 87103. | City Hall, 1 Civic Plaza, Albuquerque, NM 87102. | Jul. 7, 2025 | 350002
Oklahoma:
Pottawatomie (FEMA Docket No.: B-2522) | Citizen Potawatomi Nation (23-06-2226P). | John A. Barrett Jr., Tribal Chair, Citizen Potawatomi Nation, 1601 South Gordon Cooper Drive, Shawnee, OK 74801. | Citizen Potawatomi Nation Tribal Headquarters and Administration, 1601 South Gordon Cooper Drive, Shawnee, OK 74801. | Jun. 27, 2025 | 400553
Pottawatomie (FEMA Docket No.: B-2522) | City of Shawnee (23-06-2226P). | The Honorable Ed Bolt, Mayor, City of Shawnee, 16 West 9th Street, Shawnee, OK 74801. | City Hall, 16 West 9th Street, Shawnee, OK 74801. | Jun. 27, 2025 | 400178
Pottawatomie (FEMA Docket No.: B-2522) | City of Tecumseh (23-06-2226P). | The Honorable Eddy Parker, Mayor, City of Tecumseh, 114 North Broadway Street, Tecumseh, OK 74873. | City Hall, 114 North Broadway Street, Tecumseh, OK 74873. | Jun. 27, 2025 | 400179
Pottawatomie (FEMA Docket No.: B-2522) | Town of Bethel Acres (23-06-2226P). | The Honorable Tony Carlile, Mayor, Town of Bethel Acres, P.O. Box 1118, Shawnee OK 74802. | Town Hall, 18101 Bethel Road, Shawnee OK 74801. | Jun. 27, 2025 | 400346
Pottawatomie (FEMA Docket No.: B-2522) | Unincorporated areas of Pottawatomie County (23-06-2226P). | Melissa Dennis, Chair, Pottawatomie County Board of Commissioners, 309 North Broadway Avenue, Shawnee, OK 74801. | Pottawatomie County Emergency Operations Center, 13503 Acme Road, Shawnee, OK 74804. | Jun. 27, 2025 | 400496
South Carolina:
Chester (FEMA Docket No.: B-2517) | Unincorporated areas of Chester County (24-04-5651P). | Brian Hester, Chester County Administrator, P.O. Box 580, Chester, SC 29706. | Chester County Building and Zoning Department, 1476 J.A. Cochran Bypass, Chester, SC 29706. | Jul. 3, 2025 | 450047
Greenville (FEMA Docket No.: B-2514) | City of Greenville (24-04-1178P). | The Honorable Knox White, Mayor, City of Greenville, P.O. Box 2207, Greenville, SC 29601. | Engineering Department, 204 Halton Road, 4th Floor, Greenville, SC 29607. | Jun. 25, 2025 | 450091
Greenville (FEMA Docket No.: B-2514) | Unincorporated areas of Greenville County (24-04-1178P). | Dan Tripp, Chair, Greenville County Council, 301 University Ridge, Suite 2400, Greenville, SC 29601. | Greenville County Planning and Code Compliance Division, 301 University Ridge, Suite 4100, Greenville, SC 29601. | Jun. 25, 2025 | 450089
Texas:
Collin (FEMA Docket No.: B-2522) | Town of Prosper (24-06-0728P). | The Honorable David F. Bristol, Mayor, Town of Prosper, 250 West 1st Street, Prosper, TX 75078. | Town Hall, 250 West 1st Street, Prosper, TX 75078. | Jun. 30, 2025 | 480141
Collin (FEMA Docket No.: B-2522) | Unincorporated areas of Collin County (24-06-0728P). | The Honorable Chris Hill, Collin County Judge, 2300 Bloomdale Road, Suite 4192, McKinney, TX 75071. | Collin County Juvenile Justice Alternative Education Program Building, 4690 Community Avenue, McKinney, TX 75071. | Jun. 30, 2025 | 480130
Dallas (FEMA Docket No.: B-2527) | City of Grand Prairie (24-06-1295P). | The Honorable Ron Jensen, Mayor, City of Grand Prairie, P.O. Box 534045, Grand Prairie, TX 75053. | City Hall, 300 West Main Street, Grand Prairie, TX 75050. | Jul. 7, 2025 | 485472
Dallas (FEMA Docket No.: B-2527) | City of Irving (24-06-1295P). | The Honorable Rick Stopfer, Mayor, City of Irving, 825 West Irving Boulevard, Irving, TX 75060. | City Hall, 825 West Irving Boulevard, Irving, TX 75060. | Jul. 7, 2025 | 480180
Hays (FEMA Docket No.: B-2517) | City of San Marcos (24-06-0699P). | Stephanie Reyes, Manager, City of San Marcos, 630 East Hopkins Street, San Marcos, TX 78666. | City Hall, 630 East Hopkins Street, San Marcos TX 78666. | Jun. 26, 2025 | 485505
Rockwall (FEMA Docket No.: B-2517) | City of Fate (24-06-2278P). | The Honorable David Billings, Mayor, City of Fate, 1900 C.D. Boren Parkway, Fate, TX 75087. | City Hall, 1900 C.D. Boren Parkway, Fate, TX 75087. | Jul. 7, 2025 | 480544
Utah: Davis (FEMA Docket No.: B-2510) | City of Layton (24-08-0320P). | The Honorable Joy Petro, Mayor, City of Layton, 437 North Wasatch Drive, Layton, UT 84041. | City Hall, 437 North Wasatch Drive, Layton, UT 84041. | May 27, 2025 | 490047
Washington:
Lewis (FEMA Docket No.: B-2510) | Unincorporated areas of Lewis County (23-10-0525P). | Ryan Barrett, Lewis County Manager, 351 Northwest North Street, Chehalis, WA 98532. | Lewis County Community Services Office, 2025 Northeast Kresky Avenue, Chehalis, WA 98532. | May 2, 2025 | 530102
Walla Walla (FEMA Docket No.: B-2510) | Unincorporated areas of Walla Walla County (24-10-0146P). | Gunner Fulmer, Chair, Walla Walla County Board of Commissioners, P.O. Box 1506, Walla Walla, WA 99362. | Walla Walla County, Community Development Department, 310 West Poplar Street, Suite 200, Walla Walla, WA 99362. | Jun. 10, 2025 | 530194

[FR Doc. 2025-14873 Filed 8-5-25; 8:45 am]

BILLING CODE 9110-12-P